DEPARTMENT OF COMMERCE

International Trade Administration

Applications for Duty-Free Entry of Scientific Instruments

Pursuant to Section 6(c) of the Educational, Scientific and Cultural Materials Importation Act of 1966 (Pub. L. 89-651, as amended by Public Law 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before December 15, 2008. Address written comments to Statutory Import Programs Staff, Room 2104, U.S. Department of Commerce, Washington, DC 20230. Applications may be examined between 8:30 a.m.and 5:30 p.m. at the U.S. Department of Commerce in Room 2104.

Docket Number: 08-057. Applicant: Louisiana State University, Department of Chemistry, 232 Choppin Hall, Baton Rouge, LA 70803. Instrument: Electron Microscope, Model FEI Quanta 3D FEG DualBeam. Manufacturer: FEI Company, the Netherlands. Intended Use: The instrument is intended to be used for large area cross-sectioning and analytical work, automated 3D tomography, nanolithography, and TEM specimen preparation. This type of work necessitates a high performance Dualbeam system with Environmental SEM capabilities. Application accepted by Commissioner of Customs: October 21, 2008.

Docket Number: 08-058. Applicant: University of New Mexico, Center for Micro-Engineered Materials, MSC01 1120 Farris Eng. CTR 203, 1 University of New Mexico, Albuquerque, NM 87131. Instrument: Electron Microscope, Model FEI Quanta 3D FEG Focused Ion Beam. Manufacturer: FEI Company, the Netherlands. Intended Use: The instrument is intended to be used to study nanoscale materials. Specifically, it will be used for the study of heterogeneous catalysts, heteraoepitaxial semiconductors, quantum dots, lasers, microfluidic devices, ion channels, free-standing thin films, biosensors and for the study of interplanetary materials and meteorites. Application accepted by Commissioner of Customs: October 21, 2008.

Dated: November 18, 2008.
Christopher Cassel,
Acting Director, Subsidies Enforcement Office, Import Administration.

[FR Doc. E8-27888 Filed 11-21-08; 8:45 am]

BILLING CODE 3510-DS-P